DEPARTMENT OF HEALTH AND HUMAN SERVICES

National Institutes of Health

National Institute on Alcohol Abuse and Alcoholism; Amended Notice of Meeting

Notice is hereby given of a change in the meeting of the National Institute on Alcohol Abuse and Alcoholism Special Emphasis Panel, July 18, 2002, 8 a.m. to July 18, 2002, 5 p.m, Double Tree Hotel, 1750 Rockville Pike, Rockville, MD, 20852 which was published in the Federal Register on July 5, 2002, V. 67; 129, Pg 44860.

RFA-02-006 to be reviewed on 07/18/2002, at the Marriott Pooks Hill, 5151 Pooks Hill Road, Bethesda, MD, not the Double Tree Hotel as previously announced (FR 07/05/2002, Vol. 67, No. 129, Pg. 44860). The meeting is closed to the public.

Dated: July 16, 2002.
LaVerne Y. Stringfield,
Director, Office of Federal Advisory Committee Policy.

[FR Doc. 02-18506 Filed 7-22-02; 8:45 am]

BILLING CODE 4140-01-M